DEPARTMENT OF JUSTICE

Drug Enforcement Administration

Manufacturer of Controlled Substances; Notice of Application

Pursuant to 21 CFR 1301.33(a), this is notice that on June 29, 2004, JFC Technologies, LLC, 100 West Main Street, Bound Brook, New Jersey 08805, made application by letter to the Drug Enforcement Administration (DEA) for registration as a bulk manufacturer of Diphenozylate (9170), a basic class of controlled substance listed in Schedule II.

The company plans to manufacture the controlled substance for the manufacture of other controlled substances for distribution to its customers.

Any other such applicant and any person who is presently registered with DEA to manufacture such a substance may file comments or objections to the issuance of the proposed registration pursuant to 21 CFR 1301.33(a).

Any such comments or objections may be addressed, in quintuplicate, to the Deputy Assistant Administrator, Office of Diversion Control, Drug Enforcement Administration, United States Department of Justice, Washington, DC 20537, Attention: DEA Federal Register Representative (CCD) and must be filed no later than October 12, 2004.

Dated: July 23, 2004.
William J. Walker,
Deputy Assistant Administrator, Office of Diversion Control, Drug Enforcement Administration.

[FR Doc. 04-18179 Filed 8-9-04; 8:45 am]

BILLING CODE 4410-09-M